DEPARTMENT OF JUSTICE

Notice of Lodging of Consent Decree Under Section 107 of the Comprehensive Environmental Response, Compensation and Liabilities Act

Notice is hereby given that on July 26, 2000 a proposed Consent Decree (“Decree”) in United States v. Spokane Metals Co., et al., Civil Action No. CS-00-0255-FZS (E.D. Wash.), was lodged with the United States District Court for the Eastern District of Washington. The United States filed this action pursuant to sections 106 and 107 of the Comprehensive Environmental Response, Compensation, and Liability Act (“CERCLA”), 42 U.S.C. 9606 and 9607, for recovery of response costs incurred by the United States as a result of releases of various hazardous substances at the Spokane Junkyard and Associated Sites in Spokane, Washington. During its years of operation, the Spokane Metals Company purchased scrap items from many sources in eastern Washington and northern Idaho, including many used electrical transformers, large industrial batteries and large mercury switches. Releases of hazardous substances from these items over several decades contaminated the 12.5 acre site.

This Decree will require the named defendants to reimburse the United States $680,000 for costs incurred in responding to the releases of hazardous substances, implement institutional controls, provide for the operation and maintenance at the Site, and pay EPA's future oversight costs. The Consent Decree also includes three federal PRPs as Settling Federal Agencies: the Department of Energy's Bonneville Power Administration; the Department of the Interior's Bureau of Reclamation; and the Department of the Navy.

The Department of Justice will receive for a period of thirty (30) days from the date of this publication comments relating to the Decree. Comments should be addressed to the Assistant Attorney General of the Environment and Natural Resources Division, Department of Justice, Washington, D.C. 20530, and should refer to, United States v. Spokane Metals Co., et al., Civil Action No. CS-00-0255-FZS (E.D.Wash.) and D.J. Ref. #90-11-3-1020.

The Decree may be examined at the office United States Department of Justice, Environment and Natural Resources Division, Denver Field Office, 999 18th Street, North Tower Suite 945, Denver, Colorado, 80202. A copy of the Decree may also be obtained by mail from the Department of Justice Consent Decree Library, P.O. Box 7611, Washington, D.C. 20044-7611. In requesting a copy, please enclose a check in the amount of $15.25 for the Decree (25 cents per page reproduction cost) payable to the Consent Decree Library.

Bruce Gelber,
Deputy Chief, Environment and Natural Resources Division, Environmental Enforcement Section.

[FR Doc. 00-20295 Filed 8-9-00; 8:45 am]

BILLING CODE 4410-15-M